FEDERAL MINE SAFETY AND HEALTH REVIEW COMMISSION

29 CFR Part 2700

Procedural Rules

AGENCY: Federal Mine Safety and Health Review Commission.

ACTION: Final rule; extension of comment period and delay of effective date.

SUMMARY: The Federal Mine Safety and Health Review Commission (the “Commission”) is an independent adjudicatory agency that provides trials and appellate review of cases arising under the Federal Mine Safety and Health Act of 1977 (the “Mine Act”). Trials are held before the Commission's Administrative Law Judges, and appellate review is provided by a five-member Review Commission appointed by the President and confirmed by the Senate. On January 17, 2025, the Commission published a final rule, which made final revisions to many of the Commission's procedural rules. The Commission is extending the comment period and delaying the effective date set forth in that publication.

DATES: For the final rule amending 29 CFR part 2700, published January 17, 2025, at 90 FR 5610, the effective date is delayed, and the comment period is extended. The effective date is delayed until April 7, 2025. The Commission will accept written and electronic comments received on or before March 21, 2025.

ADDRESSES: Written comments should be mailed to Michael A. McCord, General Counsel, Office of the General Counsel, Federal Mine Safety and Health Review Commission, 1331 Pennsylvania Ave. NW, Suite 520N, Washington, DC 20004-1710. Electronic comments should state “Comments on Procedural Rules” in the subject line and be sent to RulesComments@fmshrc.gov.

FOR FURTHER INFORMATION CONTACT: Sarah Stewart, Deputy General Counsel, Office of the General Counsel, Federal Mine Safety and Health Review Commission, at (202) 434-9935.

SUPPLEMENTARY INFORMATION: On January 17, 2025, the Commission published a final rule which made final various revisions to its procedural rules set forth in 29 CFR part 2700. 90 FR 5610. The publication provided that the Commission would accept written and electronic comments on the final rule received on or before February 18, 2025, and the final rules would be effective on March 3, 2025. The Commission is extending the period for comments and delaying the effective date. The Commission will accept written and electronic comments on the final rule received on or before March 21, 2025. The final rules will become effective on April 7, 2025.

Dated: February 11, 2025.
Mary Lu Jordan,
Chair, Federal Mine Safety and Health Review Commission.

[FR Doc. 2025-02676 Filed 2-14-25; 8:45 am]

BILLING CODE 6735-01-P